DEPARTMENT OF COMMERCE

National Oceanic and Atmospheric Administration

[I.D. 020901E]

Fisheries off West Coast States and in the Western Pacific; Western Pacific Crustacean Fisheries; 2001 Bank-specific Harvest Guidelines

AGENCY: National Marine Fisheries Service (NMFS), National Oceanic and Atmospheric Administration (NOAA), Commerce.

ACTION: No harvest guideline for crustaceans.

SUMMARY: NMFS announces that annual harvest guidelines for the commercial lobster fishery around the Northwestern Hawaiian Islands (NWHI) will not be issued for 2001.

ADDRESSES: Copies of background material pertaining to this action may be obtained from Dr. Charles Karnella, Administrator, NMFS, Pacific Islands Area Office, 1601 Kapiolani Blvd., Suite 1101, Honolulu, HI 96814.

FOR FURTHER INFORMATION CONTACT: Alvin Katekaru at 808-973-2937.

SUPPLEMENTARY INFORMATION: Under the Fishery Management Plan for the Crustacean Fisheries of the Western Pacific Region, 50 CFR 660.50(b)(2), NMFS is required to publish by February 28 of each year, the harvest guidelines for lobster Permit Area 1 around the NWHI. The year 2000 NWHI lobster fishery was closed because of concerns raised by NMFS scientists about the health of the fishery and as a precautionary measure to prevent overfishing of the lobster resources. Furthermore, NMFS is under a Court Order issued by the U.S. District Court for the District of Hawaii to keep the crustacean fisheries closed until an Environmental Impact Statement and a Biological Opinion have been prepared and issued for the crustacean fisheries. In addition, recently issued Executive Orders 13178 and 13196 appear to close indefinitely the entire NWHI crustacean fishery. Given these events, NMFS announces that it will not be publishing any harvest guidelines for this fishery for the year 2001. Although no regulatory action has been taken to close the NWHI lobster fishery for 2001, NMFS anticipates that this will occur in the near future. Therefore, no harvest of NWHI lobster resources will be allowed and effectively the harvest guideline will be zero. In addition, there is still uncertainty regarding the model assumptions used by NMFS scientists to estimate the exploitable lobster population. However, as indicated in the NMFS 2001 “Report to Congress” on the status of fisheries, the lobster stock is not overfished. NMFS intends to conduct biological research on the status of NWHI lobster resources and to examine the resulting data for indications as to the appropriate direction for future fishery management actions.

Authority: 16 U.C.S. 1801 et seq.

Dated: February 15, 2001.
Bruce C. Morehead,
Acting Director, Office of Sustainable Fisheries, National Marine Fisheries Service.

[FR Doc. 01-4415 Filed 2-21-01; 8:45 am]

BILLING CODE 3510-22-S